DEPARTMENT OF TRANSPORTATION

Federal Aviation Administration

14 CFR Part 39

[Docket No. FAA-2013-0398; Directorate Identifier 2011-SW-065-AD]

RIN 2120-AA64

Airworthiness Directives; Eurocopter Deutschland GmbH Helicopters

AGENCY: Federal Aviation Administration (FAA), DOT.

ACTION: Notice of proposed rulemaking (NPRM).

SUMMARY: We propose to adopt a new airworthiness directive (AD) for Eurocopter Deutschland GmbH (ECD) Model EC135P1, EC135P2, EC135P2+, EC135T1, EC135T2, and EC135T2+ helicopters with certain fire extinguishing systems installed. This proposed AD would require modifying the fire extinguishing system injection tubes. This proposed AD is prompted by a report that the injection tubes are deforming due to heat. The proposed actions are intended to prevent deformation of the fire extinguishing system injection tubes during a fire, which could result in impaired distribution of the fire extinguishing agent, failure of the fire extinguishing system to contain an engine fire, and subsequent loss of control of the helicopter.

DATES: We must receive comments on this proposed AD by July 8, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Matt Wilbanks, Aviation Safety Engineer, Rotorcraft Certification Office, Rotorcraft Directorate, FAA, 2601 Meacham Blvd., Fort Worth, Texas 76137; telephone (817) 222-5110; email matt.wilbanks@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0172, dated September 7, 2011 (AD 2011-0172), to correct an unsafe condition for ECD Model EC 135 P1, EC 135 P2, EC 135 P2+, EC 135 T1, EC 135 T2, EC 135 T2+, EC 635 T1, EC 635 P2+, and EC 635 T2+ helicopters with a single engine fire extinguishing system, part number (P/N) L262M1808101, P/N L262M1812101, or P/N L262M1812102, or with a dual engine fire extinguishing system, P/N L262M1813102, installed. EASA advises that the fire extinguishing system injection tubes on Model EC 135 and EC 635 helicopters “are not compliant with the relevant airworthiness requirements, because they are also forming part of the firewall.” According to EASA, during an engine fire, this condition may affect the function of the fire extinguishing system and degrade the fire containment capability of the system to the extent that it is incapable of extinguishing an engine fire. For these reasons, EASA issued AD 2011-0172, which requires modification of the affected injection tubes by removing part of the tubing and replacing it with a section of heat-resistant injection tubing.

FAA's Determination

These helicopters have been approved by the aviation authority of the Federal Republic of Germany and are approved for operation in the United States. Pursuant to our bilateral agreement with the Federal Republic of Germany, EASA, its technical representative, has notified us of the unsafe condition described in its AD. We are proposing this AD because we evaluated all known relevant information and determined that an unsafe condition is likely to exist or develop on other products of the same type design.

Related Service Information

ECD has issued EC135 Alert Service Bulletin (ASB) No. EC135-26A-003, Revision 2, dated December 19, 2011, which describes procedures to remove a section of the fire extinguishing system injection tubing and replace it with heat-resistant injection tubing.

Proposed AD Requirements

This proposed AD would require, within 30 days, cutting out a portion of the existing injection tubes and replacing that portion with a section of new injection tubing.

Differences Between This Proposed AD and the EASA AD

The EASA AD applies to helicopters with a dual engine fire extinguishing system and this proposed AD does not because these systems are only installed on helicopters operated by the German Federal Police and are not operated in the U. S. Also, the EASA AD applies to Model EC635 helicopters, and the proposed AD does not because the EC635 is not type-certificated in the U.S.

Costs of Compliance

We estimate that this proposed AD would affect 246 helicopters of U.S. Registry. We estimate that operators may incur the following costs in order to comply with this AD. Modifying the injection tubes would require about 4.5 work-hours at an average labor rate of $85 per hour and required parts would cost about $900, for a cost of $1,282 per helicopter and a total cost to U.S. operators of $315,372.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter Deutschland GmbH: Docket No. FAA-2013-0398; Directorate Identifier 2011-SW-065-AD.

(a) Applicability

This AD applies to Eurocopter Deutschland GmbH (ECD) Model EC135P1, EC135P2, EC135P2+, EC135T1, EC135T2, and EC135T2+ helicopters with a fire extinguishing system part number (P/N) L262M1808101, P/N L262M1812101, or P/N L262M1812102 installed, certificated in any category.

(b) Unsafe Condition

This AD defines the unsafe condition as deformation of the fire extinguishing system injection tubes during an engine fire, which could result in impaired distribution of the fire extinguishing agent, failure of the fire extinguishing system to contain a fire, and subsequent loss of control of the helicopter.

(c) Comments Due Date

We must receive comments by July 8, 2013.

(d) Compliance

You are responsible for performing each action required by this AD within the specified compliance time unless it has already been accomplished prior to that time.

(e) Required Actions

(1) Within 30 days, modify each fire extinguishing system injection tube by removing and replacing a section of the tubing in accordance with the Accomplishment Instructions, paragraph 3.B., of Eurocopter EC135 Alert Service Bulletin No. EC135-26A-003, Revision 2, dated December 19, 2011.

(2) Do not install an injection tube, P/N L262M1810101, P/N L262M1811801, or P/N L262M1809101, on any helicopter unless it has been modified as required by this AD.

(f) Alternative Methods of Compliance (AMOCs)

(1) The Manager, Safety Management Group, FAA, may approve AMOCs for this AD. Send your proposal to: Matt Wilbanks, Aviation Safety Engineer, Rotorcraft Certification Office, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) The subject of this AD is addressed in European Aviation Safety Agency AD No. 2011-0172, dated September 7, 2011.

(h) Subject

Joint Aircraft Service Component (JASC) Code: 2620: Extinguishing System.

Issued in Fort Worth, Texas, on April 26, 2013.
Kim Smith,
Directorate Manager, Rotorcraft Directorate, Aircraft Certification Service.

[FR Doc. 2013-10911 Filed 5-7-13; 8:45 am]

BILLING CODE 4910-13-P